Title 3—

The President

Proclamation 8032 of June 26, 2006

Independence Day, 2006

By the President of the United States of America

A Proclamation

On July 4, 1776, our Nation's Founders declared “That these United Colonies are, and of Right, ought to be free and Independent States.” This declaration marked a great milestone in the history of human freedom. On the 230th anniversary of the signing of the Declaration of Independence, we pay tribute to the courage and dedication of those who created this country, and we celebrate the values of liberty and equality that make our country strong.

The patriots of the Revolutionary War acted on the beliefs that “all men are created equal” and “that they are endowed by their Creator with certain unalienable Rights.” By advancing these ideals, generations of Americans have unleashed the hope of freedom for people in every corner of the world.

As we celebrate our independence, Americans can take pride in our history and look to the future with confidence. We offer our gratitude to all the American patriots, past and present, who have sought to advance freedom and lay the foundations of peace. Because of their sacrifice, this country remains a beacon of hope for all who dream of liberty and a shining example to the world of what a free people can achieve. May God continue to bless the United States of America.

NOW, THEREFORE, I, GEORGE W. BUSH, President of the United States of America, by virtue of the authority vested in me by the Constitution and laws of the United States, do hereby proclaim July 4, 2006, as Independence Day. I call upon the people of the United States to observe with all due ceremony our Independence Day as a time to honor our Founders and their legacy of freedom and remember with thankfulness the sacrifice of our men and women in uniform.

IN WITNESS WHEREOF, I have hereunto set my hand this twenty-sixth day of June, in the year of our Lord two thousand six, and of the Independence of the United States of America the two hundred and thirtieth.

B

[FR Doc. 06-5938

Filed 6-28-06; 8:45 am]

Billing code 3195-01-P